FEDERAL MARITIME COMMISSION

Sunshine Act Meeting

Time and Date: 10 a.m.—June 9, 2004.

Place: 800 North Capitol Street, NW., First Floor Hearing Room, Washington, DC.

Status: Closed.

Matters To Be Considered: 1. Licensing, Compliance, Enforcement Process and SHJ International Express, LLC and Gary Yenkok Tan.

Contact Person for More Information: Bryant L. VanBrakle, Secretary, (202) 523-5725.

Bryant L. VanBrakle,
Secretary.

[FR Doc. 04-12817 Filed 6-2-04; 1:56 pm]

BILLING CODE 6730-01-M